DEPARTMENT OF THE INTERIOR

Minerals Management Service

30 CFR Parts 203, 250, 251, and 260

RIN 1010-AD42

Outer Continental Shelf Regulations—Technical Amendments

AGENCY: Minerals Management Service (MMS), Interior.

ACTION: Final rule.

SUMMARY: This document makes minor technical changes to regulations that were published in various Federal Register documents and are codified in the Code of Federal Regulations. These changes will correct form names in 30 CFR parts 250 and 251, as well as various citations and typographical errors in 30 CFR parts 203, 250, 251, and 260.

DATES: Effective on May 4, 2007.

FOR FURTHER INFORMATION CONTACT: Cheryl Blundon, Regulatory Specialist at (703) 787-1607, fax (703) 787-1555, or e-mail cheryl.blundon@mms.gov.

SUPPLEMENTARY INFORMATION: Background: The technical corrections in this document affect all offshore operators, lessees, pipeline right-of-way holders, and permittees. The corrections are necessary to correct citation and typographical errors, to add or change a few words for clarification, and to correct form names or provide the form numbers.

With respect to the table in § 250.125(a), we are assigning parenthetical numbered line designations for each requirement and its fee to make it easier to identify the affected requirements in future rulemakings or when referencing the items listed in this table. Where applicable, we also added the subsection to those citations in the third column that did not previously provide them (e.g., § 250.143 is corrected to read § 250.143(d)).

Also, in final rulemaking (67 FR 44360, July 2, 2002) we inappropriately used the term “geologic” in § 250.175(b)(3). We are correcting that term to read “interpreted geophysical.”

This document corrects regulations in 30 CFR parts 203, 250, 251, and 260 to reflect these changes. Because this rule makes no substantive change in any rule or requirement, MMS for good cause finds that notice and public comment are impracticable and unnecessary pursuant to 5 U.S.C. 553(b)(B).

Procedural Matters

Regulatory Planning and Review (Executive Order (E.O.) 12866)

This rule is not a significant rule as determined by the Office of Management and Budget (OMB) and is not subject to review under E.O. 12866.

(1) This rule will not have an annual effect of $100 million or more on the economy. It will not adversely affect in a material way the economy, productivity, competition, jobs, the environment, public health or safety, or State, local, or tribal governments or communities.

(2) This rule will not create a serious inconsistency or otherwise interfere with action taken or planned by another agency. It will have no effect on any other agency.

(3) This rule will not alter the budgetary effects of entitlements, grants, user fees or loan programs, or the rights or obligations of their recipients.

(4) This rule will not raise novel legal or policy issues.

Regulatory Flexibility Act (RFA)

The Department certifies that this rule will not have a significant economic effect on a substantial number of small entities under the RFA (5 U.S.C. 601 et seq.).

Your comments are important to us. The Small Business and Agriculture Regulatory Enforcement Ombudsman and 10 Regional Fairness Boards were established to receive comments from small business about Federal agency enforcement actions. The Ombudsman will annually evaluate the enforcement activities and rate each agency's responsiveness to small business. If you wish to comment on the actions of MMS, call 1-888-734-3247. You may comment to the Small Business Administration without fear of retaliation. Disciplinary action for retaliation by an MMS employee may include suspension or termination from employment with the Department of the Interior.

Small Business Regulatory Enforcement Fairness Act (SBREFA)

This rule is not a major rule under the SBREFA (5 U.S.C. 804(2)). This rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises. Leasing in the U.S. OCS is limited to residents of the U.S. or companies incorporated in the U.S. This rule will not change that requirement.

Unfunded Mandates Reform Act (UMRA)

This rule will not impose an unfunded mandate on State, local, or tribal governments or the private sector of more than $100 million per year. This rule will not have a significant or unique effect on State, local, or tribal governments or the private sector. A statement containing the information required by the UMRA (2 U.S.C. 1531 et seq.) is not required.

Takings Implication Assessment (Executive Order 12630)

This rule is not a governmental action capable of interference with constitutionally protected property rights. Thus, MMS did not need to prepare a Takings Implication Assessment according to E.O. 12630, Governmental Actions and Interference with Constitutionally Protected Property Rights.

Federalism (Executive Order 13132)

With respect to E.O. 13132, this rule will not have federalism implications. This rule will not substantially and directly affect the relationship between the Federal and State governments. To the extent that State and local governments have a role in OCS activities, this rule will not affect that role.

Civil Justice Reform (Executive Order 12988)

With respect to E.O. 12988, the Office of the Solicitor has determined that this rule does not unduly burden the judicial system and does meet the requirements of sections 3(a) and 3(b)(2) of the Order.

Paperwork Reduction Act (PRA)

This rule does not contain any new information collection requirements subject to the PRA, nor does it affect any previously approved collections. The rule does not require a submittal to OMB for review and approval under section 3507(d) of the PRA. Any information collection burdens referenced in this rulemaking are already approved under OMB Control Numbers 1010-0114, expiration October 31, 2007; 1010-0141, expiration August 31, 2008; and 1010-0048, expiration July 31, 2009, respectively. The PRA provides that an agency may not conduct or sponsor a collection of information unless it displays a currently valid OMB control number. Until OMB approves a collection of information and assigns a control number, you are not required to respond.

National Environmental Policy Act (NEPA) of 1969

The MMS has determined that this rule is strictly administrative in nature. This qualifies for a categorical exclusion under 516 Departmental Manual (DM) Chapter 2, Appendix 1.10. Therefore, it is categorically excluded from environmental review under section 102(2)(C) of the National Environmental Policy Act (NEPA), pursuant to 516 DM, Chapter 2, Appendix 1. In addition, the rule does not involve any of the 10 extraordinary circumstances listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Energy Supply, Distribution, or Use (Executive Order 13211)

Executive Order 13211 requires the agency to prepare a Statement of Energy Effects when it takes a regulatory action that is identified as a significant energy action. This rule is not a significant energy action, and therefore would not require a Statement of Energy Effects because it:

a. Is not a significant regulatory action under E.O. 12866,

b. Is not likely to have a significant adverse effect on the supply, distribution, or use of energy, and

c. Has not been designated by the Administrator of the Office of Information and Regulatory Affairs, OMB, as a significant energy action.

Consultation With Indian Tribes (Executive Order 13175)

Under the criteria in E.O. 13175, we have evaluated this rule and determined that it has no potential effects on federally recognized Indian tribes. There are no Indian or tribal lands in the OCS.

List of Subjects

30 CFR Part 203

Continental shelf, Government contracts, Indians—lands, Mineral royalties, Oil and gas exploration, Public lands—mineral resources, Sulphur.

30 CFR Part 250

Administrative practice and procedures, Continental shelf, Environmental impact statements, Environmental protection, Government contracts, Investigations, Oil and gas exploration, Penalties, Pipelines, Public lands—minerals resource, Public lands—rights-of-way, Reporting and recordkeeping requirements, Sulphur.

30 CFR Part 251

Continental shelf, Freedom of information, Oil and gas exploration, Public lands—mineral resources, Reporting and recordkeeping requirements, Research.

30 CFR Part 260

Continental shelf, Government contracts, Mineral royalties, Oil and gas exploration, Public lands—mineral resources, Reporting and recordkeeping requirements.

Dated: April 20, 2007.
C. Stephen Allred,
Assistant Secretary, Land and Minerals Management.

For the reasons stated above, MMS amends 30 CFR Parts 203, 250, 251, and 260 as follows:

PART 203—RELIEF OR REDUCTION IN ROYALTY RATES

1. The authority citation for part 203 continues to read as follows:

Authority: 25 U.S.C. 396 et seq.; 25 U.S.C. 396a et seq.; 25 U.S.C. 2101 et seq.; 30 U.S.C. 181 et seq.; 30 U.S.C. 351 et seq.; 30 U.S.C. 1001 et seq.; 30 U.S.C. 1701 et seq.; 31 U.S.C. 9701; 43 U.S.C. 1301 et seq.; 43 U.S.C. 1331 et seq.; and 43 U.S.C. 1801 et seq.

2. In § 203.44(a), revise “§ 204.45” to read “§ 203.45”.

PART 250—OIL AND GAS AND SULPHUR OPERATIONS IN THE OUTER CONTINENTAL SHELF

3. The authority citation for part 250 continues to read as follows:

Authority: 43 U.S.C. 1331 et seq., and 31 U.S.C. 9701.

4. In § 250.102(b), revise the table in paragraph (b) to read as follows:

§ 250.102. What does this part do?

* * * * *

(b) * * *

Table—Where to Find Information for Conducting Operations
For information about | Refer to 30 CFR 250 subpart or
(1) Applications for permit to drill | D.
(2) Development and Production Plans (DPP) | B.
(3) Downhole commingling | K.
(4) Exploration Plans (EP) | B.
(5) Flaring | K.
(6) Gas measurement | L.
(7) Off-lease geological and geophysical permits | 30 CFR 251.
(8) Oil spill financial responsibility coverage | 30 CFR 253.
(9) Oil and gas production safety systems | H.
(10) Oil spill response plans | 30 CFR 254.
(11) Oil and gas well-completion operations | E.
(12) Oil and gas well-workover operations | F.
(13) Decommissioning Activities | Q.
(14) Platforms and structures | I.
(15) Pipelines and Pipeline Rights-of-Way | J.
(16) Sulphur operations | P.
(17) Training | O.
(18) Unitization | M.

5. In § 250.125, revise the table in paragraph (a) to read as follows:

§ 250.125 Service fees.

(a) * * *

Service Fee Table
Service—processing of the following: | Fee amount | 30 CFR citation
(1) Change in Designation of Operator | $150 | § 250.143(d).
(2) Right-of-Use and Easement for State lessee | $2,350 | § 250.165.
(3) Suspension of Operations/Suspension of Production (SOO/SOP) Request | $1,800 | § 250.171(e).
(4) Exploration Plan (EP) | $3,250 for each surface location; no fee for revisions | § 250.211(d).
(5) Development and Production Plan (DPP) or Development Operations Coordination Document (DOCD) | $3,750 for each well proposed; no fee for revisions | § 250.241(e).
(6) Deepwater Operations Plan | $3,150 | § 250.292(p).
(7) Conservation Information Document | $24,200 | § 250.296(a).
(8) Application for Permit to Drill (APD; Form MMS-123) | $1,850 for initial applications only; no fee for revisions | § 250.410(d); § 250.411; § 250.460; § 250.513(b); § 250.515; § 250.1605; § 250.1617(a); § 250.1622.
(9) Application for Permit to Modify (APM; Form MMS-124) | $110 | § 250.460; § 250.465(b); § 250.513(b); § 250.515; § 250.613(b); § 250.615; § 250.1618(a); § 250.1622; § 250.1704(g).
(10) New Facility Production Safety System Application for facility with more than 125 components | $4,750 A component is a piece of equipment or ancillary system that is protected by one or more of the safety devices required by API RP 14C (incorporated by reference as specified in § 250.198); $12,500 additional fee will be charged if MMS deems it necessary to visit a facility offshore, and $6,500 to visit a facility in a shipyard | § 250.802(e).
(11) New Facility Production Safety System Application for facility with 25-125 components | $1,150 Additional fee of $7,850 will be charged if MMS deems it necessary to visit a facility offshore, and $4,500 to visit a facility in a shipyard | § 250.802(e).
(12) New Facility Production Safety System Application for facility with fewer than 25 components | $570 | § 250.802(e).
(13) Production Safety System Application—Modification with more than 125 components reviewed | $530 | § 250.802(e).
(14) Production Safety System Application—Modification with 25-125 components reviewed | $190 | § 250.802(e).
(15) Production Safety System Application—Modification with fewer than 25 components reviewed | $80 | § 250.802(e).
(16) Platform Application—Installation—Under the Platform Verification Program | $19,900 | § 250.905(k).
(17) Platform Application—Installation—Fixed Structure Under the Platform Approval Program | $2,850 | § 250.905(k).
(18) Platform Application—Installation—Caisson/Well Protector | $1,450 | § 250.905(k).
(19) Platform Application—Modification/Repair | $3,400 | § 250.905(k).
(20) New Pipeline Application (Lease Term) | $3,100 | § 250.1000(b).
(21) Pipeline Application—Modification (Lease Term) | $1,800 | § 250.1000(b).
(22) Pipeline Application—Modification (ROW) | $3,650 | § 250.1000(b).
(23) Pipeline Repair Notification | $340 | § 250.1008(e).
(24) Pipeline Right-of-Way (ROW) Grant Application | $2,350 | § 250.1015(a).
(25) Pipeline Conversion of Lease Term to ROW | $200 | § 250.1015(a).
(26) Pipeline ROW Assignment | $170 | § 250.1018(b).
(27) 500 Feet From Lease/Unit Line Production Request | $3,300 | § 250.1101(f).
(28) Gas Cap Production Request | $4,200 | § 250.1101(f).
(29) Downhole Commingling Request | $4,900 | § 250.1106(d).
(30) Complex Surface Commingling and Measurement Application | $3,550 | § 250.1202(a); § 250.1203(b); § 250.1204(a).
(31) Simple Surface Commingling and Measurement Application | $1,200 | § 250.1202(a); § 250.1203(b); § 250.1204(a).
(32) Voluntary Unitization Proposal or Unit Expansion | $10,700 | § 250.1303(d).
(33) Unitization Revision | $760 | § 250.1303(d).
(34) Application to Remove a Platform or Other Facility | $4,100 | § 250.1727.
(35) Application to Decommission a Pipeline (Lease Term) | $1,000 | § 250.1751(a) or § 250.1752(a).
(36) Application to Decommission a Pipeline (ROW) | $1,900 | § 250.1751(a) or § 250.1752(a).

* * * * *

§ 250.143 [Amended]

6. Amend § 250.143(a), in the first sentence, by revising the word “form” to read “form (Form MMS-1123)”.

§ 250.160 [Amended]

7. In § 250.160, in paragraphs (f) and (g), the term “a fee” is revised to read “a rental amount”.

§ 250.165 [Amended]

8. In § 250.165, in paragraph (a), the citation “§ 0.1010(a);” is revised to read as “§ 250.125;” and in paragraph (b), the citation “§ 250.1009(c)(2)” is revised to read as “§ 250.160(g).”

§ 250.169 [Amended]

9. In § 250.169(a), the citation “§ 250.180(b)” is revised to read “§ 250.180(b), (d), and (e).”

§ 250.175 [Amended]

10. In § 250.175(b)(3), in the first sentence, the word “geologic” is revised to read “interpreted geophysical”.

§ 250.186 [Amended]

11. In § 250.186(b)(2), the citation “§ 250.196” is revised to read “§ 250.197”.

§ 250.194 [Amended]

12. In § 250.194(c), in the first sentence, after the word “lease” add the words “or right-of-way”.

§ 250.197 [Amended]

13. In § 250.197(a)(8), in the third column, the word “seciton” is revised to read “section”; and in § 250.197(b)(7), in the third column, the citations “§§ 250.197(b)(6) and (b)(7)” are revised to read “§§ 250.197(b)(5) and (b)(6)”.

14. Revise the table in § 250.198(d), to read as follows:

§ 250.198 Documents incorporated by reference.

* * * * *

(d) * * *

For | Write to
(1) ACI Standards | American Concrete Institute, P. O. Box 9094, Farmington Hill, MI 48333-9094.
(2) AISC Standards | American Institute of Steel Construction, Inc., One East Wacker Drive, Suite #700, Chicago, IL 60601-1802.
(3) ANSI/ASME Codes | American National Standards Institute, ATTN: Sales Department, 25 West 43rd Street, 4th Floor, New York, NY 10036; and/or American Society of Mechanical Engineers, 22 Law Drive, P.O. Box 2900, Fairfield, NJ 07007-2900.
(4) API Recommended Practices, Specs, Standards, Manual of Petroleum Measurement Standards (MPMS) chapters | American Petroleum Institute, 1220 L Street, NW., Washington, DC 20005-4070.
(5) ASTM Standards | American Society for Testing and Materials, 100 Bar Harbor Drive, P. O. Box C700, West Conshohocken, PA 19428-2959.
(6) AWS Codes | American Welding Society, 550 NW, LeJeune Road, P.O. Box 351040, Miami, FL 33135.
(7) NACE Standards | National Association of Corrosion Engineers, First Services Dept., 1440 South Creek Drive, Houston, TX 77218.

* * * * *

§ 250.199 [Amended]

15. Section 250.199 is amended as follows:

A. In § 250.199(b), in the 4th sentence, the citation “§ 250.196”, is revised to read “§ 250.197”.

B. In § 250.199(e) the title of the first column is revised to read “30 CFR subpart, title and/or MMS Form (OMB Control No.)”.

§ 250.201 [Amended]

16. In § 250.201(a)(3), in the first column of the table, add the word “Development” before “Operations Coordination Document (DOCD)”.

§ 250.210 [Amended]

17. In § 250.210(a) and (b), in both paragraphs, revise “§ 250.196(b)” to read “§ 250.197(b).”

§ 250.232 [Amended]

18. In § 250.232(a)(2) the citation “section 307(c)(3)(B)(iii)” is revised to read “section 307(c)(3)(B)(ii)”.

§ 250.270 [Amended]

19. In § 250.270(a)(l)(i) the citation “§ 267(a)(1), (a)(2), and (b)” is revised to read “§ 250.267(a)(1), (a)(2), and (b)”.

§ 250.281 [Amended]

20. In § 250.281(a)(3), the citation “§ 250.901” is revised to read “§ 250.905”.

§ 250.285 [Amended]

21. In § 250.285(c) the citation “§ 250.274” is revised to read “§ 250.273”.

§ 250.408 [Amended]

22. In § 250.408 in the 2nd sentence, after the word “(APD)” add the parenthetical phrase, “(Form MMS-123)”.

§ 250.410 [Amended]

23. In § 250.410(d)(2), the citation “§ 250.127” is revised to read “§ 250.186”.

§ 250.417 [Amended]

24. In § 250.417(c)(1), the citation “§ 250.903” is revised to read “§ 250.915 through § 250.918.”

§ 250.466 [Amended]

25. In § 250.466 introductory text, in the third sentence, the citation “§ 250.469” is revised to read “§ 250.467.”

§ 250.490 [Amended]

26. In § 250.490(o)(3), in the third sentence the term “(f)(13)(iv)” is revised to read “(f)”.

27. In § 250.513, paragraphs (a), (c), and (d) are revised to read as follows:

§ 250.513 Approval and reporting of well completion operations.

(a) No well-completion operation may begin until the lessee receives written approval from the District Manager. If completion is planned and the data are available at the time you submit the Application for Permit to Drill and Supplemental APD Information Sheet (Forms MMS-123 and MMS-123S), you may request approval for a well-completion on those forms (see §§ 250.410 through 250.418 of this part). If the District Manager has not approved the completion or if the completion objective or plans have significantly changed, you must submit an Application for Permit to Modify (Form MMS-124) for approval of such operations.

* * * * *

(c) Within 30 days after completion, you must submit to the District Manager an End of Operations Report (Form MMS-125), including a schematic of the tubing and subsurface equipment.

(d) You must submit public information copies of Form MMS-125 according to § 250.186.

§ 250.613 [Amended]

28. In § 250.613, the following revisions are made:

A. In paragraph (d), the form name “Sundry Notices and Reports on Wells” is revised to read “Application for Permit to Modify”.

B. In paragraph (d), the form name “Well Summary Report” is revised to read “End of Operations Report”.

§ 250.801 [Amended]

29. In § 250.801(h)(1), the form name “Sundry Notices and Reports on Wells” is revised to read “Application for Permit to Modify”.

§ 250.802 [Amended]

30. In § 250.802(e)(3), last sentence, after the word “Systems”, add the parenthetical phrase “(incorporated by reference as specified in § 250.198)”; and in paragraph (e)(4)(i), first sentence, after the words “Zone 2”, add the parenthetical phrase “(incorporated by reference as specified in § 250.198)”.

§ 250.1001 [Amended]

31. In § 250.1001, the following revisions are made:

A. In the definition of “right-of-way pipelines”, paragraph (a) is amended to add the word “of” after the word “group”.

B. In the definition of “right-of-way pipelines”, paragraphs “(a)”, “(b)”, “(c)”, and “(d)” are redesignated as paragraphs “(1)”, “(2)”, “(3)”, and “(4)”.

§ 250.1002 [Amended]

32. In § 250.1002, paragraph (c)(2) is amended to add the word “pressure” after the parenthetical abbreviation “(HPT)”.

§ 250.1003 [Amended]

33. In § 250.1003, in paragraph (b)(1), the word “hydrostatically” is revised to read “pressure”.

§ 250.1004 [Amended]

34. In § 250.1004, paragraph (b)(2) is amended to remove the word “to” in the first sentence.

§ 250.1005 [Amended]

35. In § 250.1005, paragraph (b) is amended to remove the last word in the paragraph, “measurements”.

§ 250.1007 [Amended]

36. In § 250.1007, in paragraph (a)(4), the word “were” is revised to read “will be”.

§ 250.1010 [Amended]

37. Section 250.1010 is amended as follows:

A. In § 250.1010(c), the word “lessee” in the last sentence is revised to read “right-of-way holder”.

B. In § 250.1010(h), the citation “§ 250.1014” is revised to read “§ 250.1019”.

§ 250.1011 [Amended]

38. In § 250.1011, paragraph (b)(1) is revised to read, “(1) The Gulf of Mexico and the area offshore the Atlantic Coast;” and in paragraph (b)(2), the word “area” is revised to read “areas”.

§ 250.1016 [Amended]

39. In § 250.1016(c)(1), the citation “§ 250.1010(c)” is revised to read “§ 250.1015(c)”.

§ 250.1019 [Amended]

40. In § 250.1019, the citation “§ 250.1009(c)(9)” is revised to read “§ 250.1010(h)”.

§ 250.1102 [Amended]

41. In § 250.1102(a)(l), the form name “Request for Reservoir Maximum Efficient Rate (MER)” is revised to read “Sensitive Reservoir Information Report (SRI)”.

§ 250.1103 [Amended]

42. In § 250.1103(a), the fourth sentence is amended to remove the parenthetical phrase “(15.025 psia in the Gulf of Mexico OCS Region)”.

§ 250.1202 [Amended]

43. Amend § 250.1202(f)(1) by revising the citation “30 CFR 250.101” to read as “30 CFR 250.198”.

§ 250.1602 [Amended]

44. Amend § 250.1602(b), by revising the list of subparts “A, B, C, G, I, J, M, N, and O” to read as “A, B, C, I, J, M, N, O, and Q”.

§ 250.1619 [Amended]

45. Amend § 250.1619(b), by revising the form name “Well Summary Report” to read as “End of Operations Report”; and the form name, “Sundry Notices and Reports on Wells” to read as “Application for Permit to Modify”.

PART 251—GEOLOGICAL AND GEOPHYSICAL (G&G) EXPLORATIONS OF THE OUTER CONTINENTAL SHELF

46. The authority citation for part 251 continues to read as follows:

Authority: 43 U.S.C. 1331 et seq., 31 U.S.C. 9701.

47. In § 251.7, paragraph (b) introductory text and the first sentence in paragraph (b)(6) are revised to read as follows:

§ 251.7 Test drilling activities under a permit.

* * * * *

(b) Deep stratigraphic tests. You must submit to the appropriate Regional Director, at the address in § 251.5(d), a drilling plan, an environmental report, an Application for Permit to Drill (Form MMS-123), and a Supplemental APD Information Sheet (Form MMS-123S) as follows:

* * * * *

(6) Application for permit to drill (APD). Before commencing deep stratigraphic test drilling activities under an approved drilling plan, you must submit an APD and a Supplemental APD Information Sheet (Forms MMS-123 and MMS-123S) and receive approval. * * *

* * * * *

§ 251.14 [Amended]

48. In § 251.14(b) revise “250.196(b)(2)” to read “250.197(b)(2)”.

PART 260—OUTER CONTINENTAL SHELF OIL AND GAS LEASING

49. The authority citation for part 260 continues to read as follows:

Authority: 43 U.S.C. 1331 et seq.

§ 260.102 [Amended]

50. Amend § 260.102, in the definitions of Highest responsible qualified bidder and Qualified bidder, the citations “256, subpart G” and “§ 256, subpart G” are both revised to read as “30 CFR part 256, subpart G”.

[FR Doc. E7-8417 Filed 5-3-07; 8:45 am]

BILLING CODE 4310-MR-P